DEPARTMENT OF THE INTERIOR

National Park Service

Meeting: Committee for the Preservation of the White House

In compliance with the Federal Advisory Committee Act, notice is hereby given of a meeting of the Committee for the Preservation of the White House. The meeting will be held at the Old Executive Office Building, Washington, DC at 1:30 p.m., Monday, May 22, 2000. It is expected that the agenda will include policies, goals and long range plans. The meeting will be open, but subject to appointment and security clearance requirements. Clearance information must be received by May 18, 2000.

Inquiries may be made by calling the committee for the Preservation of the White House between 9 a.m. and 4 p.m., weekdays at (202) 619-6344. Written comments may be sent to the Executive Secretary, Committee for the Preservation of the White House, 1100 Ohio Drive, SW., Washington, DC 20242.

Dated: May 11, 2000.
James I. McDaniel,
Executive Secretary, Committee for the Preservation of the White House.

[FR Doc. 00-12339 Filed 5-15-00; 8:45 am]

BILLING CODE 4310-70-M